DEPARTMENT OF AGRICULTURE

Agriculture Marketing Service

7 CFR Part 983

[Docket No. FV02-983-1 FR]

Pistachios Grown in California; Delay of the Effective Date for Aflatoxin, Size and Quality Requirements

AGENCY: Agriculture Marketing Service, USDA.

ACTION: Final rule; delay of effective date.

SUMMARY: This document delays the effective date for aflatoxin, size and quality requirements established under Marketing Order No. 983 (order). The order regulates the handling of pistachios produced in California. Sections 983.38 through 983.46 of the order establish maximum aflatoxin along with minimum size and quality requirements for California pistachios. The delayed effective date was requested by members of the California pistachio industry. Postponing the effective date of the regulations will provide pistachio handlers with preparation time needed to meet the aflatoxin, size and quality requirements of the order.

DATES: The effective date for §§ 983.38 through 983.46 is delayed from August 1, 2004, to February 1, 2005.

FOR FURTHER INFORMATION CONTACT: Melissa Schmaedick, Marketing Specialist, Marketing Order Administration Branch, Fruit and Vegetable Programs, AMS, USDA, PO Box 1035, Moab, Utah 84532; telephone: (435) 259-7988, Fax: (435) 259-4945; or Rose Aguayo, Marketing Specialist, California Marketing Field Office, Marketing Order Administration Branch, Fruit and Vegetable Programs, AMS, USDA, 2202 Monterey Street, suite 102B, Fresno, California 93721; telephone: (559) 487-5901, Fax: (559) 487-5906.

Small businesses may request information on complying with this regulation by contacting Jay Guerber, Marketing Order Administration Branch, Fruit and Vegetable Programs, AMS, USDA, 1400 Independence Avenue SW., STOP 0237, Washington, DC 20250-0237; telephone: (202) 720-2491, Fax: (202) 720-8938, or E-mail: Jay.Guerber@usda.gov.

SUPPLEMENTARY INFORMATION: This document delays the effective date from August 1, 2004, to February 1, 2005, for aflatoxin, size and quality provisions established under Marketing Order No. 983 (order) (69 FR 17844, April 5, 2004). The order, which became effective in April 2004, regulates the handling of pistachios produced in California. Sections 983.38 through 983.46 of the order establish maximum aflatoxin along with minimum size and quality requirements for California pistachios, and were scheduled to become effective on August 1, 2004. The delay was requested by members of the California pistachio industry. Postponing the effective date of the aflatoxin, size and quality requirements will provide pistachio handlers with preparation time needed to comply with these requirements. For example, additional time is needed for handlers to arrange for accredited laboratories to test their pistachios and certify that they meet the order's aflatoxin requirements.

In addition, administrative rules and regulations needed to implement the program (for example, handler reporting requirements) have not been established. These should be considered and recommended by the committee established to locally administer the order. The committee is in the process of being appointed by the Department. Postponing the effective date of the order's regulatory provisions would allow the new committee time to become established and actively participate in implementing the order.

Thus, the effective date of §§ 983.38 through 983.46 should be delayed until February 1, 2005. A 6-month delay should provide adequate time for pistachio handlers to prepare to meet the aflatoxin, size and quality requirements. It should also allow sufficient time for an administrative committee to be appointed and recommend any implementing rules and regulations deemed necessary.

List of Subjects in 7 CFR Part 983

Marketing agreements, Pistachios, Reporting and recordkeeping requirements.

Authority: 7 U.S.C. 601-674.

Dated: July 21, 2004.
A.J. Yates,
Administrator, Agricultural Marketing Service.

[FR Doc. 04-16941 Filed 7-23-04; 8:45 am]

BILLING CODE 3410-02-P